DEPARTMENT OF THE TREASURY

Office of the Comptroller of the Currency

Agency Information Collection Activities: Information Collection Renewal; Submission for OMB Review; International Regulation

AGENCY: Office of the Comptroller of the Currency (OCC), Treasury.

ACTION: Notice and request for comment.

SUMMARY: The OCC, as part of its continuing effort to reduce paperwork and respondent burden, invites the general public and other federal agencies to take this opportunity to comment on a continuing information collection as required by the Paperwork Reduction Act of 1995 (PRA).

In accordance with the requirements of the PRA, the OCC may not conduct or sponsor, and the respondent is not required to respond to, an information collection unless it displays a currently valid Office of Management and Budget (OMB) control number.

The OCC is soliciting comment concerning the renewal of its information collection titled “International Regulation.” The OCC also is giving notice that it has sent the collection to OMB for review.

DATES: Comments must be received by June 28, 2018.

ADDRESSES: Commenters are encouraged to submit comments by email, if possible. You may submit comments by any of the following methods:

• Email: prainfo@occ.treas.gov.

• Mail: Legislative and Regulatory Activities Division, Office of the Comptroller of the Currency, Attention: 1557-0102, 400 7th Street SW, suite 3E-218, Washington, DC 20219.

• Hand Delivery/Courier: 400 7th Street SW, Suite 3E-218, Washington, DC 20219.

• Fax: (571) 465-4326.

Instructions: You must include “OCC” as the agency name and “1557-0102” in your comment. In general, the OCC will publish them on www.reginfo.gov without change, including any business or personal information that you provide, such as name and address information, email addresses, or phone numbers. Comments received, including attachments and other supporting materials, are part of the public record and subject to public disclosure. Do not include any information in your comment or supporting materials that you consider confidential or inappropriate for public disclosure.

Additionally, please send a copy of your comments by mail to: OCC Desk Officer, 1557-0102, U.S. Office of Management and Budget, 725 17th Street NW, #10235, Washington, DC 20503 or by email to oira_submission@omb.eop.gov.

You may review comments and other related materials that pertain to this information collection ¹ following the close of the 30-day comment period for this notice by any of the following methods:

¹ On February 2, 2018, the OCC published a 60-day notice for this information collection.

• Viewing Comments Electronically: Go to www.reginfo.gov. Click on the “Information Collection Review” tab. Underneath the “Currently under Review” section heading, from the drop-down menu, select “Department of Treasury” and then click “submit”. This information collection can be located by searching by OMB control number “1557-0102” or “International Regulation”. Upon finding the appropriate information collection, click on the related “ICR Reference Number”. On the next screen, select “View Supporting Statement and Other Documents” and then click on the link to any comment listed at the bottom of the screen.

• For assistance in navigating www.reginfo.gov, please contact the Regulatory Information Service Center at (202) 482-7340.

• Viewing Comments Personally: You may personally inspect comments at the OCC, 400 7th Street SW, Washington, DC. For security reasons, the OCC requires that visitors make an appointment to inspect comments. You may do so by calling (202) 649-6700 or, for persons who are deaf or hearing impaired, TTY, (202) 649-5597. Upon arrival, visitors will be required to present valid government-issued photo identification and submit to security screening in order to inspect comments.

FOR FURTHER INFORMATION CONTACT: OCC Clearance Officer, (202) 649-5490 or, for persons who are deaf or hearing impaired, TTY, (202) 649-5597, Legislative and Regulatory Activities Division, Office of the Comptroller of the Currency, 400 7th Street SW, Suite 3E-218, Washington, DC 20219.

SUPPLEMENTARY INFORMATION: Under the PRA (44 U.S.C. 3501-3520), Federal agencies must obtain approval from the OMB for each collection of information that they conduct or sponsor. “Collection of information” is defined in 44 U.S.C. 3502(3) and 5 CFR 1320.3(c) to include agency requests or requirements that members of the public submit reports, keep records, or provide information to a third party. The OCC asks OMB to extend its approval of the following collection.

Title: International Regulation.

OMB Control No.: 1557-0102.

Description: This submission covers an existing regulation and involves no change to the regulation or to the information collection requirements. The OCC requests only that OMB extend its approval of the information collection.

12 CFR 28.3 Filing Requirements for Foreign Operations of a National Bank—Notice Requirement

A national bank shall notify the OCC when it files an application, notice, or report with the FRB ² to establish or open a foreign branch, or acquire or divest of an interest in, or close, an Edge corporation, Agreement corporation, foreign bank, or other foreign organization; or opens a foreign branch, and no application or notice is required by the FRB for such transaction.

² Board of Governors of the Federal Reserve System.

In practice, the OCC also has required an application pursuant to § 28.3(c) from a national bank seeking to join a foreign exchange, clearinghouse, or similar type of organization. In lieu of a notice, the OCC may accept a copy of an application, notice, or report submitted to another federal agency that covers the proposed action and contains substantially the same information required by the OCC. A national bank shall furnish the OCC with any additional information the OCC may require in connection with the national bank's foreign operations.

12 CFR 28.14(c) Limitations Based Upon Capital of a Foreign Bank—Aggregation

A foreign bank shall aggregate business transacted by all federal branches and agencies with the business transacted by all state branches and agencies controlled by the foreign bank in determining its compliance with limitations based upon the capital of the foreign bank. A foreign bank shall designate one federal branch or agency office in the United States to maintain consolidated information so that the OCC can monitor compliance.

12 CFR 28.15(d), (d)(1), (d)(2), and (f) Capital Equivalency Deposits

A foreign bank should require its depository bank to segregate its capital equivalency deposits on the depository bank's books and records. The instruments making up the capital equivalency deposit that are placed in safekeeping at a depository bank to satisfy a foreign bank's capital equivalency deposit requirement must be maintained pursuant to an agreement prescribed by the OCC that shall be a written agreement entered into with the OCC. Each federal branch or agency shall maintain a capital equivalency account and keep records of the amount of liabilities requiring capital equivalency coverage in a manner and form prescribed by the OCC. A foreign bank's capital equivalency deposits may not be reduced in value below the minimum required for that branch or agency without the prior approval of the OCC, but in no event may the value fall below the statutory minimum.

12 CFR 28.16(c) Deposit-Taking by an Uninsured Federal Branch—Application for an Exemption

A foreign bank may apply to the OCC for an exemption to permit an uninsured federal branch to accept or maintain deposit accounts that are not listed in § 28.16(b). The request should describe the types, sources, and estimated amount of such deposits and explain why the OCC should grant an exemption, and how the exemption maintains and furthers the policies described in § 28.16(a).

12 CFR 28.16(d) Deposit-Taking by an Uninsured Federal Branch—Aggregation of Deposits

A foreign bank that has more than one federal branch in the same state may aggregate deposits in all of its federal branches in that state, but exclude deposits of other branches, agencies, or wholly owned subsidiaries of the bank. The federal branch shall compute the average amount by using the sum of deposits as of the close of business of the last 30 calendar days ending with, and including, the last day of the calendar quarter, divided by 30. The federal branch shall maintain records of the calculation until its next examination by the OCC.

12 CFR 28.18(c)(1) Recordkeeping and Reporting—Maintenance of Accounts, Books, and Records

Each federal branch or agency shall maintain a set of accounts and records reflecting its transactions that are separate from those of the foreign bank and any other branch or agency. The federal branch or agency shall keep a set of accounts and records in English sufficient to permit the OCC to examine the condition of the federal branch or agency and its compliance with applicable laws and regulations.

12 CFR 28.20(a)(1) Maintenance of Assets—General Rule

The OCC may require a foreign bank to hold certain assets in the state in which its federal branch or agency is located.

12 CFR 28.22(e) Reports of Examination

The federal branch or agency shall send the OCC certification that all of its Reports of Examination have been destroyed or return its Reports of Examination to the OCC.

Type of Review: Regular.

Affected Public: Businesses or other for-profit.

Estimated Number of Respondents: 52.

Estimated Total Annual Burden: 2,286.

Frequency of Response: On occasion.

The OCC issued a notice for 60 days of comment on February 2, 2018, 83 FR 4956. No comments were received. Comments continue to be invited on:

(a) Whether the collection of information is necessary for the proper performance of the functions of the OCC, including whether the information has practical utility;

(b) The accuracy of the OCC's estimate of the burden of the collection of information;

(c) Ways to enhance the quality, utility, and clarity of the information to be collected;

(d) Ways to minimize the burden of the collection on respondents, including through the use of automated collection techniques or other forms of information technology; and

(e) Estimates of capital or start-up costs and costs of operation, maintenance, and purchase of services to provide information.

Dated: May 22, 2018.
Karen Solomon,
Acting Senior Deputy Comptroller and Chief Counsel.

[FR Doc. 2018-11428 Filed 5-25-18; 8:45 am]

BILLING CODE 4810-33-P